DEPARTMENT OF DEFENSE

Department of the Navy

Notice of Public Meetings for the Draft Environmental Impact Statement/Overseas Environmental Impact Statement for Military Readiness Activities in the Mariana Islands Training and Testing Study Area; Correction and Public Comment Period Extension

AGENCY: Department of Navy, DoD.

ACTION: Notice; correction and extension.

SUMMARY: The Department of the Navy published a document in the Federal Register(78 FR 178) on September 13, 2013, concerning public meetings to support the Draft Environmental Impact Statement/Overseas Environmental Impact Statement (EIS/OEIS) for the Mariana Islands Training and Testing Study Area. Due to the shutdown of the U.S. federal government, the public meetings have been postponed and the public comment period extended. The public comment period on the Draft EIS has been extended from November 12, 2013, to December 12, 2013.

FOR FURTHER INFORMATION CONTACT: Ms. Nora Macariola-See, Naval Facilities Engineering Command, Pacific. Attention: MITT EIS/OEIS, 258 Makalapa Drive, Suite 100, Building 258, Floor 3, Pearl Harbor, Hawaii 96860-3134.

Correction: In the Federal Register (78 FR 178) of September 13, 2013, on page 56683, in the first column, correct the public meeting dates to read:

1. Tuesday, November 12, 2013, at the University of Guam, Leon Guerrero School of Business and Public Administration Building, Anthony Leon Guerrero Multi-Purpose Room 129, Mangilao, Guam 96923.

2. Wednesday, November 13, 2013, at the Pedro P. Tenorio Multi-Purpose Center in Susupe, Saipan, MP 96950.

3. Thursday, November 14, 2013, at the Tinian High School Cafeteria, San Jose Village, Tinian, MP 96952.

4. Friday, November 15, 2013, at the Sinapalo Elementary School Cafeteria, Sinapalo I, Rota, MP 96951.

All meetings will be held from 5:00 p.m. to 8:00 p.m.

Extension: The public comment period for the Draft EIS/OEIS for the Mariana Islands Training and Testing Study Area has been extended from November 12, 2013, to December 12, 2013.

Dated: October 24, 2013.
N.A. Hagerty-Ford,
Commander, Office of the Judge Advocate General, U.S. Navy, Federal Register Liaison Officer.

[FR Doc. 2013-25942 Filed 10-30-13; 8:45 am]

BILLING CODE 3810-FF-P